ENVIRONMENTAL PROTECTION AGENCY

[EPA-HQ-OAR-2005-0490; FRL-8936-8]

Agency Information Collection Activities; Submission to OMB for Review and Approval; Comment Request; Consolidated Emissions Reporting Rule (Renewal); EPA ICR No. 0916.13, OMB Control No. 2060-0088

AGENCY: Environmental Protection Agency (EPA).

ACTION: Notice.

SUMMARY: In compliance with the Paperwork Reduction Act (PRA) (44 U.S.C. 3501 et seq.), this document announces that an Information Collection Request (ICR) has been forwarded to the Office of Management and Budget (OMB) for review and approval. This is a request to renew an existing approved collection. The ICR, which is abstracted below, describes the nature of the information collection and its estimated burden and cost.

DATES: Additional comments may be submitted on or before September 2, 2009.

ADDRESSES: Submit your comments, referencing Docket ID No. EPA-HQ-OAR-2005-0490, to: (1) EPA online using http://www.regulations.gov (our preferred method), by e-mail to a-and-r-docket@epa.gov, or by mail to: EPA Docket Center, Environmental Protection Agency, Air and Radiation, 2822T, 1200 Pennsylvania Ave., NW., Washington, DC 20460, and (2) OMB by mail to: Office of Information and Regulatory Affairs, Office of Management and Budget (OMB), Attention: Desk Officer for EPA, 725 17th Street, NW., Washington, DC 20503.

FOR FURTHER INFORMATION CONTACT: Dennis Beauregard, Office of Air Quality Planning and Standards, Air Quality Assessment Division, Mail Code C339-02, Environmental Protection Agency, Research Triangle Park, NC 27711; telephone number: (919)-541-5512; fax number: (919)-541-0684; e-mail address: beauregard.dennis@epa.gov.

SUPPLEMENTARY INFORMATION: EPA has submitted the following ICR to OMB for review and approval according to the procedures prescribed in 5 CFR 1320.12. On April 21, 2009 (74 FR 18226), EPA sought comments on this ICR pursuant to 5 CFR 1320.8(d). EPA received no comments during the comment period. Any additional comments on this ICR should be submitted to EPA and OMB within 30 days of this notice.

EPA has established a public docket for this ICR under Docket ID No. EPA-HQ-OAR-2005-0490, which is available for online viewing at http://www.regulations.gov, or in person viewing at the Air and Radiation Docket in the EPA Docket Center (EPA/DC), EPA West, Room 3334, 1301 Constitution Ave., NW., Washington, DC. The EPA/DC Public Reading Room is open from 8 a.m. to 4:30 p.m., Monday through Friday, excluding legal holidays. The telephone number for the Reading Room is 202-566-1744, and the telephone number for the Air and Radiation Docket is 202-566-1742.

Use EPA's electronic docket and comment system at http://www.regulations.gov to submit or view public comments, access the index listing of the contents of the docket, and to access those documents in the docket that are available electronically. Once in the system, select “docket search,” then key in the docket ID number identified above. Please note that EPA's policy is that public comments, whether submitted electronically or in paper, will be made available for public viewing at http://www.regulations.gov as EPA receives them and without change, unless the comment contains copyrighted material, confidential business information (CBI), or other information whose public disclosure is restricted by statute. For further information about the electronic docket, go to http://www.regulations.gov.

Title: Consolidated Emissions Reporting Rule (Renewal).

ICR numbers: EPA ICR No. 0916.13, OMB Control No. 2060-0088.

ICR Status: This ICR is scheduled to expire on October 31, 2009. Under OMB regulations, the Agency may continue to conduct or sponsor the collection of information while this submission is pending at OMB. An Agency may not conduct or sponsor, and a person is not required to respond to, a collection of information, unless it displays a currently valid OMB control number. The OMB control numbers for EPA's regulations in title 40 of the CFR, after appearing in the Federal Register when approved, are listed in 40 CFR part 9 and displayed either by publication in the Federal Register or by other appropriate means, such as on the related collection instrument or form, if applicable. The display of OMB control numbers in certain EPA regulations is consolidated in 40 CFR part 9.

Abstract: EPA has promulgated a Consolidated Emissions Reporting Rule (CERR) (40 CFR part 51, subpart A) to coordinate new emissions inventory reporting requirements with existing requirements of the Clean Air Act (CAA) and the 1990 Amendments. Under the CERR, 55 State and territorial air quality agencies, including the District of Columbia (DC), as well as an estimated 49 local air quality agencies, must annually submit emissions data for point sources emitting specified levels of volatile organic compounds, oxides of nitrogen, carbon monoxide, sulfur dioxide, particulate matter less than or equal to 10 micrometers in diameter, particulate matter less than or equal to 2.5 micrometers in diameter (PM2.5), and ammonia (NH3).

Every 3 years, states are required to submit a point source inventory, as well as a statewide stationary nonpoint, nonroad mobile, onroad mobile, and biogenic source inventory for all criteria pollutants (including lead and lead compounds) and their precursors. The emissions data submitted for the annual and 3-year cycle inventories for stationary point, nonpoint, nonroad mobile, and onroad mobile sources are used by EPA's Office of Air Quality Planning and Standards to assist in developing ambient air quality emission standards, performing regional modeling, and preparing national trends assessments and special analyses and reports. Any data submitted to EPA under the CERR is in the public domain and cannot be treated as confidential.

Burden Statement: The annual public reporting and recordkeeping burden for this collection of information is estimated to average 31 hours per response. The total number of respondents is assumed to be 1,863. This total number of respondents includes 104 State agencies that are subject to the CERR data reporting requirements and 1,759 sources that are not subject, but are assumed to incur the burden for reporting estimates of PM2.5 and NH3 to State agencies. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements which have subsequently changed; train personnel to be able to respond to a collection of information; search data sources; complete and review the collection of information; and transmit or otherwise disclose the information.

Respondents/Affected Entities: 55 State and territorial air pollution control agencies, 49 local air agencies, and 1,759 industry sources.

Estimated Number of Respondents: 1,863.

Frequency of Response: Annual.

Estimated Total Annual Hour Burden: 57,698.

Estimated Total Annual Cost: $230,880, includes $230,880 annualized capital or operational and maintenance costs.

Changes in the Estimates: There is a decrease of 474 hours in the total estimated burden currently identified in the OMB Inventory of Approved ICR Burdens. This decrease is due to use of updated point source reporting data from the 2005 National Emissions Inventory indicating fewer Type A sources will be reported annually to EPA.

Dated: July 21, 2009.
Jenny Noonan Edmonds,
Acting Director, Office of Air Quality Planning and Standards.

[FR Doc. E9-18478 Filed 7-31-09; 8:45 am]

BILLING CODE 6560-50-P